FEDERAL RESERVE SYSTEM

12 CFR Part 202

[Regulation B; Docket No. R-1251]

Equal Credit Opportunity

AGENCY: Board of Governors of the Federal Reserve System.

ACTION: Final rule; technical amendments.

SUMMARY: The Board is publishing a technical amendment to Regulation B (Equal Credit Opportunity Act) to correct the address of the Office of the Comptroller of the Currency as published in the Federal Register on March 7, 2006.

DATES: Effective Date: May 17, 2006.

FOR FURTHER INFORMATION CONTACT: Minh-Duc T. Le, Senior Attorney, Division of Consumer and Community Affairs, Board of Governors of the Federal Reserve System, at (202) 452-3667. For the users of Telecommunications Device for the Deaf (“TDD”) only, contact (202) 263-4869.

SUPPLEMENTARY INFORMATION: The Board published a document in the Federal Register on March 7, 2006, (71 FR 11296) which updated the addresses of certain Federal enforcement agencies. The Board is publishing this notice to correct the address of the Office of the Comptroller of the Currency.

12 CFR Chapter II

List of Subjects in 12 CFR Part 202

Aged, Banks, banking, Civil rights, Consumer protections, Credit, Discrimination, Federal Reserve System, Marital status discrimination, Penalties, Religious discrimination, Sex discrimination.

Authority and Issuance

For the reasons set forth in the preamble, the Board amends 12 CFR part 202 to read as follows:

PART 202—EQUAL CREDIT OPPORTUNITY ACT (REGULATION B)

1. The authority citation for part 202 continues to read as follows:

Authority: 15 U.S.C. 1691-1691f.

2. Appendix A is amended by revising the following Federal Enforcement Agency's address to read as follows:

Appendix A to Part 202—Federal Enforcement Agencies

* * * * *

National banks, and federal branches and federal agencies of foreign banks: Office of the Comptroller of the Currency, Customer Assistance Group, 1301 McKinney Street, Suite 3450, Houston, TX 77010-9050

* * * * *

By order of the Board of Governors of the Federal Reserve System, acting through the Secretary of the Board under delegated authority, May 11, 2006.
Jennifer J. Johnson,
Secretary of the Board.

[FR Doc. 06-4593 Filed 5-16-06; 8:45 am]

BILLING CODE 6210-01-P